ENVIRONMENTAL PROTECTION AGENCY

[FRL-6540-2]

Guidance Memoranda Relating to the One-Hour Ozone Attainment Demonstrations

AGENCY: Environmental Protection Agency (EPA).

ACTION: Notice of availability.

SUMMARY: Notice is hereby given that the EPA has issued two guidance memoranda for public review on requirements for one-hour ozone attainment demonstration State implementation plans (SIPs). The guidance memoranda are entitled: “Guidance on Motor Vehicle Emissions Budgets in One-Hour Ozone Attainment Demonstrations'' dated November 3, 1999, and “Guidance on the Reasonably Available Control Measures (RACM) Requirement and Attainment Demonstration Submissions for Ozone Nonattainment Areas'' dated November 30, 1999.

ADDRESSES: These documents are available for public inspection at EPA's website at: www.epa.gov/oms/traq (under conformity) and www.epa.gov/ttn/oarpg/ramain.html respectively. Copies of these memoranda can also be obtained from the: Ozone Policy and Strategies Group, Office of Air Quality Planning and Standards (MD-15), U.S. Environmental Protection Agency, Research Triangle Park, NC 27711.

FOR FURTHER INFORMATION CONTACT: For questions on the memorandum “Guidance on the Reasonably Available Control Measures (RACM) Requirement and Attainment Demonstration Submissions for Ozone Nonattainment Areas,” contact Ms. Sharon Reinders, U.S. EPA, MD-15, Research Triangle Park, NC 27711, telephone (919) 541-5284. For information on the memorandum “Guidance on Motor Vehicle Emissions Budgets in One-Hour Ozone Attainment Demonstrations,” contact Ms. Kathryn Sargeant, U.S. EPA, 2000 Traverwood, Ann Arbor, MI 48105, telephone, (734) 214-4441.

While EPA intends to proceed under the guidance that it is setting out today, the Agency will finalize these interpretations only when they apply in the appropriate context of the individual actions addressing specific attainment demonstrations. At that time and in that context, judicial review of EPA's interpretations would be available.

Dated: February 9, 2000.
Henry C. Thomas,
Acting Director, Office of Air Quality Planning and Standards.

[FR Doc. 00-4049 Filed 2-18-00; 8:45 am]

BILLING CODE 6560-50-U